DEPARTMENT OF TRANSPORTATION

Federal Highway Administration

Supplemental Environmental Impact Statement: Travis County, TX

AGENCY: Federal Highway Administration (FHWA), DOT.

ACTION: Notice of intent.

SUMMARY: Pursuant to 40 CFR 1508.22 and 43 TAC § 2.5(e)(2), the FHWA and Texas Department of Transportation (TxDOT) are issuing this notice to advise the public that a limited-scope supplemental environmental impact statement (SEIS) will be prepared for a transportation project in Travis County, Texas.

FOR FURTHER INFORMATION CONTACT: Mr. Salvador Deocampo, District Engineer, District A, Federal Highway Administration (FHWA), Texas Division, 300 East 8th Street, Rm 826, Austin, Texas 78701, Telephone 512-536-5950.

SUPPLEMENTARY INFORMATION: The FHWA in cooperation with TxDOT will prepare a limited-scope SEIS for the proposed improvement of U.S. 290 from Ranch-to-Market Road (RM) 1826 to east of Williamson Creek, in Travis County, Texas. The limited scope SEIS will also include improvements to SH 71 from Silvermine Drive to U.S. 290 in Travis County. The proposed improvements were originally considered in a Final Environmental Impact Statement (FEIS) covering improvements to U.S. 290/SH 71 from RM 1826 to Farm to Market (FM) 973. A Record of Decision (ROD) was issued by FHWA on August 22, 1988. The mid-section of the original project limits, between east of Williamson Creek and Riverside Drive, has been constructed. Since the issuance of the U.S. 290/SH 71 ROD, the proposed design concept for the current project has changed as a result of changes in adjacent land use, State and federal listing of the Barton Springs salamander as endangered, changes in funding mechanisms to include tolling, a proposed shift in the alignment, and public input. The original FEIS will be supplemented to evaluate the changes in potential impacts from the proposed improvements. The proposed project limits of the U.S. 290/SH 71 limited scope SEIS would extend beyond the limits of the original FEIS to allow for a transition back to existing U.S. 290 west of Scenic Brook Drive and along SH 71 at Silvermine Drive. The proposed project limits, including transitional area, cover approximately 3.6 miles along U.S. 290 and 1.2 miles along SH 71.

The project is listed in the Capital Area Metro Planning Organization (CAMPO) Mobility 2030 Plan, as amended, (the long-range transportation plan) as a six-lane tolled freeway west of Scenic Brook to east of Williamson Creek. The proposed action would include continuous non-tolled frontage roads with two to three lanes in each direction. The need for the proposed project, as stated in the 1988 FEIS, stems from congestion and low travel speeds caused by rapid population growth in the Austin metropolitan area. Crash data have also indicated safety concerns as a primary need for this project. Additionally, the economic growth of the U.S. 290/SH 71 corridor is dependent on the ability of the roadway network to accommodate both local trips created by recent nearby development as well as regional through traffic. In order to address these needs, the purpose of the proposed project is to increase traffic flow capacities and improve mobility in the roadway corridor while enhancing safety and system interconnectivity, in compliance with the adopted CAMPO Mobility 2030 Plan.

The SEIS will evaluate potential impacts from construction and operation of the proposed roadway including, but not limited to, the following: Transportation impacts (construction detours, construction traffic, and mobility improvement), air quality and noise impacts from construction equipment and operation of the facilities, water quality impacts from construction area and roadway storm water runoff, impacts to waters of the United States including wetlands from right-of-way encroachment, impacts to historic and archaeological resources, impacts to floodplains, and impacts and/or displacements to residents and businesses, land use, vegetation, wildlife, aesthetic and visual resources, socioeconomic resources, and cumulative and indirect impacts.

Public involvement is a critical component of the project development process and will occur throughout the planning and study phases. A public scoping meeting is planned, but has not yet been scheduled. The purpose of the public scoping meeting is to solicit public comments on the proposed action as part of the National Environmental Policy Act process. Opportunities for public involvement would also exist during public meetings and public review of the draft SEIS.

Letters describing the proposed action and soliciting comments will be sent to the appropriate Federal, State, and local agencies, and private organizations and citizens who have previously expressed or are known to have interest in this proposal. To ensure that the full range of issues related to this proposed action is addressed and all significant issues are identified, comments and suggestions are invited from all interested parties. Comments or questions concerning this proposed action and the SEIS should be directed to FHWA at the address above.

(Catalog of Federal Domestic Assistance Program Number 20.205, Highway, Planning, and Construction. The regulations implementing Executive Order 12372 regarding intergovernmental consultation on Federal programs and activities apply to this program.)

Issued on August 6, 2008.
Salvador Deocampo,
District Engineer.

[FR Doc. E8-18956 Filed 8-14-08; 8:45 am]

BILLING CODE 4910-22-P